DEPARTMENT OF TRANSPORTATION

Federal Aviation Administration

14 CFR Part 39

[Docket No. FAA-2005-22712; Directorate Identifier 2005-NE-24-AD; Amendment 39-14367; AD 2005-23-09]

RIN 2120-AA64

Airworthiness Directives; General Electric Company (GE) CF6-80E1A1, -80E1A2, -80E1A3, -80E1A4, and -80E1A4/B Turbofan Engines

AGENCY: Federal Aviation Administration (FAA), Department of Transportation (DOT).

ACTION: Final rule; request for comments.

SUMMARY: The FAA is adopting a new airworthiness directive (AD) for General Electric Company (GE) CF6-80E1A1, -80E1A2, -80E1A3, -80E1A4, and -80E1A4/B turbofan engines. This AD requires initial and repetitive fluorescent-penetrant inspections (FPI) of certain areas of high pressure compressor (HPC) cases, part number (P/N) 1509M97G07 and P/N 2083M69G03. This AD results from the discovery that HPC cases, P/N 1509M97G07 and P/N 2083M69G03, were inadvertently left out of the Airworthiness Limitations Section (ALS), Chapter 05-21-02, of GE Engine Manual, GEK 99376, Revision 17. We are issuing this AD to prevent failure of the HPC case aft mount flange, due to cracking.

DATES: This AD becomes effective November 25, 2005.

We must receive any comments on this AD by January 9, 2006.

ADDRESSES: Use one of the following addresses to comment on this AD:

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-0001.

• Fax: (202) 493-2251.

• Hand Delivery: Room PL-401 on the plaza level of the Nassif Building, 400 Seventh Street, SW., Washington, DC, between 9 a.m. and 5 p.m., Monday through Friday, except Federal holidays.

FOR FURTHER INFORMATION CONTACT: James Lawrence, Aerospace Engineer, Engine Certification Office, FAA, Engine and Propeller Directorate, 12 New England Executive Park, Burlington, MA 01803-5299; telephone (781) 238-7176, fax (781) 238-7199.

SUPPLEMENTARY INFORMATION: In 2003, GE introduced a new stage 5 variable stator vane system, through Service Bulletin (SB) No. CF6-80E1 72-0237, dated January 21, 2003. To accommodate this system, GE SB No. CF6-80E1 72-0240, dated January 17, 2003, required reworking HPC case, P/N 1509M97G05, to P/N 2083M69G03. All HPC cases are supposed to have cyclic limits and inspection intervals specified in the ALS, Chapter 05-21-02, of GE Engine Manual, GEK 99376, Revision 17. GE inadvertently left HPC cases P/N 1509M97G07 and P/N 2083M69G03 out of that GE Engine Manual ALS. GE's and FAA's intent is that all HPC cases must be inspected for cracking at the first hole in the aft flange above and below each horizontal split line flange. Currently, inspections of HPC cases P/N 1509M97G07 and P/N 2083M69G03 are not mandated. However, GE informed us that HPC case, P/N 2083M69G03, is now included in the ALS, Chapter 05-21-02, of GE Engine Manual, GEK 99376, Revision 19, dated August 15, 2005, and, HPC case, P/N 1509M97G07, will be included in that Manual Chapter in Revision 20, to be issued in February 2006. This condition, if not corrected, could result in failure of the HPC case aft flange, due to cracking.

FAA's Determination and Requirements of This AD

Although no airplanes that are registered in the United States use these engines, the possibility exists that the engines could be used on airplanes that are registered in the United States in the future. The unsafe condition described previously is likely to exist or develop on other GE CF6-80E1A1, -80E1A2, -80E1A3, -80E1A4, and -80E1A4/B turbofan engines of the same type design. We are issuing this AD to prevent failure of the HPC case aft flange, due to cracking. For HPC cases, P/N 1509M97G07 and P/N 2083M69G03, this AD requires:

• Initial FPI of circumferential flange spotfaces at the first hole in the aft flange above and below each horizontal split line flange, at or before reaching 7,300 cycles-since-new; and

• Repetitive FPI of circumferential flange spotfaces at the first hole in the aft flange above and below each horizontal split line flange, within 3,700 cycles-since-last-inspection.

FAA's Determination of the Effective Date

Since there are currently no domestic operators of this engine model, notice and opportunity for public comment before issuing this AD are unnecessary. A situation exists that allows the immediate adoption of this regulation.

Comments Invited

This AD is a final rule that involves requirements affecting flight safety and was not preceded by notice and an opportunity for public comment; however, we invite you to send us any written relevant data, views, or arguments regarding this AD. Send your comments to an address listed under ADDRESSES. Include “AD Docket No. FAA-2005-22712; Directorate Identifier 2005-NE-24-AD” in the subject line of your comments. We specifically invite comments on the overall regulatory, economic, environmental, and energy aspects of the rule that might suggest a need to modify it.

We will post all comments we receive, without change, to http://dms.dot.gov, including any personal information you provide. We will also post a report summarizing each substantive verbal contact with FAA personnel concerning this AD. Using the search function of the Docket Management System (DMS) Web site, anyone can find and read the comments in any of our dockets, including the name of the individual who sent the comment (or signed the comment on behalf of an association, business, labor union, etc.). You may review the DOT's complete Privacy Act Statement in the Federal Register published on April 11, 2000 (65 FR 19477-78) or you may visit http://dms.dot.gov.

Examining the AD Docket

You may examine the docket that contains the AD, any comments received, and any final disposition in person at the Docket Management Facility (DMS) Docket Offices between 9 a.m. and 5 p.m., Monday through Friday, except Federal holidays. The Docket Office (telephone (800) 647-5227) is located on the plaza level of the Department of Transportation Nassif Building at the street address stated in ADDRESSES. Comments will be available in the AD docket shortly after the DMS receives them.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the National Government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD and placed it in the AD Docket. You may get a copy of this summary at the address listed under ADDRESSES.

List of Subjects in 14 CFR Part 39

Air transportation, Aircraft, Aviation safety, Safety.

Adoption of the Amendment

Under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2005-23-09 General Electric Company: Amendment 39-14367. Docket No. FAA-2005-22712; Directorate Identifier 2005-NE-24-AD.

Effective Date

(a) This airworthiness directive (AD) becomes effective November 25, 2005.

Affected ADs

(b) None.

Applicability

(c) This AD applies to General Electric Company (GE) CF6-80E1A1, -80E1A2, -80E1A3, --80E1A4, and -80E1A4/B turbofan engines. These engines are installed on, but not limited to, Airbus Industrie A330 series airplanes.

Unsafe Condition

(d) This AD results from the discovery that high pressure compressor (HPC) cases, part number (P/N) 1509M97G07 and P/N 2083M69G03, were inadvertently left out of the Airworthiness Limitations Section (ALS), Chapter 05-21-02, of GE Engine Manual GEK 99376, Revision 17. We are issuing this AD to prevent failure of the HPC case aft flange, due to cracking.

Compliance

(e) You are responsible for having the actions required by this AD performed within the compliance times specified unless the actions have already been done.

Initial Inspection

(f) For HPC cases, P/N 1509M97G07 and P/N 2083M69G03, perform an initial fluorescent-penetrant inspection (FPI) of circumferential flange spotfaces at the first hole in the aft flange above and below each horizontal split line flange, at or before reaching 7,300 cycles-since-new. See Figure 1 of this AD for reference. Information on inspecting these areas can be found in the ALS of GE Engine Manual GEK 99376, Revision 19, dated August 15, 2005.

BILLING CODE 4910-13-P

BILLING CODE 4910-13-C

Repetitive Inspections

(g) Perform repetitive FPI of circumferential flange spotfaces at the first hole in the aft flange above and below each horizontal split line flange, within 3,700 cycles-since-last-inspection. See Figure 1 of this AD for reference. Information on inspecting these areas can be found in the ALS of GE Engine Manual GEK 99376, Revision 19, dated August 15, 2005.

Alternative Methods of Compliance

(h) The Manager, Engine Certification Office, has the authority to approve alternative methods of compliance for this AD if requested using the procedures found in 14 CFR 39.19.

Related Information

(i) None.

Issued in Burlington, Massachusetts, on November 1, 2005.
Peter A. White,
Acting Manager, Engine and Propeller Directorate, Aircraft Certification Service.

[FR Doc. 05-22207 Filed 11-8-05; 8:45 am]

BILLING CODE 4910-13-P